DEPARTMENT OF THE INTERIOR

National Park Service

National Register of Historic Places; Notification of Pending Nominations

Nominations for the following properties being considered for listing in the National Register were received by the National Park Service before September 28, 2002. Pursuant to section 60.13 of 36 CFR part 60 written comments concerning the significance of these properties under the National Register criteria for evaluation may be forwarded by United States Postal Service, to the National Register Historic Places, National Park Service, 1849 C St. NW., NC400, Washington, DC 20240; by all other carriers, National Register of Historic Places, National Park Service, 1201 Eye St. NW., 8th floor, Washington DC 20005; or by fax, 202-343-1836. Written or faxed comments should be submitted by October 30, 2002.

Carol D. Shull,
Keeper of the National Register of Historic Places.

CALIFORNIA

Solano County

Brown, Jackson Fay, House, 6751 Maine Prairie Rd., Dixon, 02001289.

GEORGIA

Candler County

Candler County Jail, 349 N. Rountree St., Metter, 02001291.

Chatham County

Eastside Historic District, Roughly bounded by E. Broad, Cedar, Gwinnett and Anderson Sts., Savannah, 02001292.

Glynn County

Colored Memorial School and Rinsley High School, 1800 Albany St., Brunswick, 02001290.

Laurens County

Stubbs Park—Stonewall Street Historic District, Roughly bounded by W. Moore St., Roosevelt St., Bellevue Ave., Marion St., Academy Ave., Lancaster and Thompson Sts., Dublin, 02001293.

Wilkes County

Smith, Robert Shand, House, 902 S. Spring St., Washington, 02001294.

KANSAS

Barton County

Wolf Hotel, 104 E. Santa Fe, Ellinwood, 02001295.

LOUISIANA

Vermilion Parish

Landry Plantation House, (Louisiana's French Creole Architecture MPS), 1320 Gallett Rd., Youngsville, 02001296.

MONTANA

Flathead County

Middle Fork Bridge, Across Middle Fork of Flathead R., West Glacier, 02001297.

PENNSYLVANIA

Washington County

Bethel African American Episcopal Church of Monongahela City, Jct. 7th and Main Sts., Monongahela City, 02001298.

[FR Doc. 02-26184 Filed 10-11-02; 8:45 am]

BILLING CODE 4310-70-P